DEPARTMENT OF COMMERCE

International Trade Administration

[A-351-825, A-533-810, A-588-833, A-469-805]

Stainless Steel Bar From Brazil, India, Japan, and Spain: Continuation of Antidumping Duty Orders

AGENCY: Import Administration, International Trade Administration, Department of Commerce.

SUMMARY: As a result of the determinations by the Department of Commerce (the Department) and the International Trade Commission (ITC) that revocation of the antidumping duty orders on stainless steel bar from Brazil, India, Japan, and Spain would likely lead to a continuation or recurrence of dumping and material injury to an industry in the United States, the Department is publishing a notice of continuation of the antidumping duty orders.

DATES: Effective Date: August 9, 2012.

FOR FURTHER INFORMATION: Bryan Hansen or Minoo Hatten, AD/CVD Operations, Office 1, Import Administration, International Trade Administration, U.S. Department of Commerce, 14th Street and Constitution Avenue NW., Washington, DC 20230; telephone: (202) 482-3683 or (202) 482-1690, respectively.

SUPPLEMENTARY INFORMATION:

Background

On December 1, 2011, the Department initiated the third sunset reviews of the antidumping duty orders ¹ on stainless steel bar from Brazil, India, Japan, and Spain pursuant to section 751(c) of the Tariff Act of 1930, as amended (the Act). See Initiation of Five-Year (“Sunset”) Review, 76 FR 74775 (December 1, 2011).

¹ Antidumping Duty Orders: Stainless Steel Bar from Brazil, India and Japan, 60 FR 9661 (February 21, 1995) and Amended Final Determination and Antidumping Duty Order: Stainless Steel Bar from Spain, 60 FR 11656 (March 2, 1995).

As a result of these sunset reviews, the Department determined that revocation of the antidumping duty orders on stainless steel bar from Brazil, India, Japan, and Spain would be likely to lead to continuation or recurrence of dumping and notified the ITC of the magnitude of the margins likely to prevail should the orders be revoked. See Stainless Steel Bar from Brazil, India, Japan, and Spain: Final Results of the Expedited Third Sunset Reviews of the Antidumping Duty Orders, 77 FR 16207 (March 20, 2012).

On August 1, 2012, pursuant to section 752(a) of the Act, the ITC published its determination that revocation of the antidumping duty orders on stainless steel bar from Brazil, India, Japan, and Spain would likely lead to continuation or recurrence of material injury to an industry in the United States within a reasonably foreseeable time. See Stainless Steel Bar From Brazil, India, Japan, and Spain; Determination, 77 FR 45653 (August 1, 2012), and ITC Publication 4341 (July 2012) entitled Stainless Steel Bar from Brazil, India, Japan, and Spain Investigation Nos. 731-TA-678, 679, 681, and 682 (Third Review).

Scope of the Orders

Imports covered by the orders are shipments of stainless steel bar. Stainless steel bar means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The stainless steel bars subject to the orders is currently classifiable under subheadings 7222.10.00, 7222.11.00, 7222.19.00, 7222.20.00, and 7222.30.00 of the Harmonized Tariff Schedule of the United States (HTSUS). Although the HTSUS subheadings are provided for convenience and customs purposes, our written description of the scope of the orders is dispositive.

Continuation of the Orders

As a result of the determinations by the Department and the ITC that revocation of these antidumping duty orders would likely lead to continuation or recurrence of dumping and material injury to an industry in the United States, pursuant to section 751(d)(2) of the Act, the Department hereby orders the continuation of the antidumping duty orders on stainless steel bar from Brazil, India, Japan, and Spain.

U.S. Customs and Border Protection will continue to collect antidumping duty cash deposits at the rates in effect at the time of entry for all imports of subject merchandise. The effective date of continuation of these orders will be the date of publication in the Federal Register of this notice of continuation. Pursuant to section 751(c)(2) of the Act, the Department intends to initiate the next five-year reviews of these orders not later than 30 days prior to the fifth anniversary of the effective date of continuation.

These five-year sunset reviews and this notice are in accordance with section 751(c) of the Act and published pursuant to section 777(i)(1) of the Act.

Dated: August 2, 2012.
Paul Piquado,
Assistant Secretary for Import Administration.

[FR Doc. 2012-19574 Filed 8-8-12; 8:45 am]

BILLING CODE 3510-DS-P